DEPARTMENT OF COMMERCE

Foreign-Trade Zones Board

[Docket T-2-2005]

Foreign-Trade Zone 105_North Kingstown, RI, Application for Temporary/Interim Manufacturing Authority, Southeastern New England Shipbuilding Corporation, (Shipbuilding), North Kingstown, RI

An application has been submitted to the Executive Secretary of the Foreign-Trade Zones Board (the Board) by the Rhode Island Economic Development Corporation, grantee of FTZ 105, requesting temporary/interim manufacturing (T/IM) authority within FTZ 105 at the Southeastern New England Shipbuilding Corporation (Senesco) shipbuilding facility located in North Kingstown, Rhode Island. The application was filed on March 25, 2005.

The Senesco shipyard (450 employees, 31 acres, capacity: up to 4 vessels/year) is located at 10 MacNaught Street within the Quonset Business Park (FTZ Site 2). Under T/IM procedures, Senesco would construct and repair tugboats (HTSUS 8901.90), double-hulled liquid barges (HTSUS 8901.20) and articulating tug barges for domestic and international customers. Foreign components that would be used at the shipyard (up to 30% of total purchases) include: diesel engines (HTSUS 8408.10), sterntubes (8483.30), reduction gears (8483.40), shaft grounding systems and seals (8483.90), generators (8501.62 , 8501.63), overfill alarms (8531.90), tank washing machines (8537.10), valve remote operators (8537.10), tank gauging systems (8537.10), and ACCU automation/steering systems (8537.10) (duty rates: 1.3 4.5%). The request indicates that Senesco will not admit any foreign-origin steel mill products to the zone for use in FTZ manufacturing activity.

FTZ procedures would exempt Senesco from Customs duty payments on the foreign components used in export activity. On its domestic sales, the company would be able to choose the duty rate that applies to finished oceangoing vessels (duty free) for the foreign-origin components noted above. Duties would be deferred or reduced on foreign production equipment admitted by Senesco to the zone until which time it becomes operational. The manufacturing activity conducted under FTZ procedures would be subject to the “standard shipyard restriction” applicable to foreign-origin steel mill products (e.g., angles, pipe, plate), which requires that full Customs duties be paid on such items.

Public comment is invited from interested parties. Submissions shall be addressed to the Board's Executive Secretary at one of the following addresses:

1. Submissions via Express/Package Delivery Services: Foreign-Trade Zones Board, U.S. Department of Commerce, Franklin Court Building 4100W, 1099 14th Street, NW, Washington, DC 20005; or,

2. Submissions via the U.S. Postal Service: Foreign-Trade Zones Board, U.S. Department of Commerce, FCB 4100W, 1401 Constitution Ave., NW, Washington, DC 20230.

The closing period for their receipt is May 4, 2005.

A copy of the application will be available for public inspection at the Office of the Foreign-Trade Zones Board's Executive Secretary at address No. 1 listed above.

Dated: March 25, 2005.
Dennis Puccinelli,
Executive Secretary.

[FR Doc. 05-6649 Filed 4-1-05; 8:45 am]

BILLING CODE 3510-DS-S